DEPARTMENT OF AGRICULTURE

Submission for OMB Review; Comment Request

March 2, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology.

Comments regarding this information collection received by April 6, 2015 will be considered. Written comments should be addressed to: Desk Officer for Agriculture, Office of Information and Regulatory Affairs, Office of Management and Budget (OMB), New Executive Office Building, 725 17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Good Neighbor Agreements with State Cooperators.

OMB Control Number: 0596—NEW.

Summary of Collection: The Forest Service (FS) is authorized under the Agricultural Act of 2014, Public Law 113-79 section 8206 and the amendment to the original Colorado version of the Good Neighbor Authority in the Omnibus Appropriations Act of 2014, Public Law 113-76 section 417 to perform specific activities in cooperation with State partners. These authorities encourage the FS to enter into Good Neighbor Agreements with the States, the Commonwealth of Puerto Rico, and State Forestry Agencies to carry out authorized forest, rangeland, and watershed restoration and protective services when similar and complementary projects are being performed on adjacent State or private lands, and on and off National Forest System (NFS) lands. http://www.fs.fed.us/farmbill/gna.shtml. The FS will maintain its land management responsibilities for all projects that take place on NFS lands.

Need and Use of the Information: Good Neighbor Agreements are considered cooperative agreements which permit the FS to work collaboratively with willing State agencies. FS will use a combination of agreement templates and federal financial assistance forms. Required information will be collected in the agreements, project type, project scope, financial plan, statement of work, standard supporting documentation for the activity, and cooperator's business information. Without the collected information the FS would not be able to create, develop, and administer the Good Neighbor Agreements. The Agency would be unable to develop or monitor projects, make payments, or identify financial and accounting errors.

Description of Respondents: States and Commonwealth of Puerto Rico.

Number of Respondents: 51.

Frequency of Responses: One time.

Total Burden Hours: 200.

Charlene Parker,
Departmental Information Collection Clearance Officer.

[FR Doc. 2015-05266 Filed 3-5-15; 8:45 am]

BILLING CODE 3411-15-P